ENVIRONMENTAL PROTECTION AGENCY

[EPA-HQ-OPP-2010-0275; FRL-8853-6]

Typographical Error in Summary Notice of Filing in Docket for Polymerized Fatty Acid Esters With Aminoalcohol Alkoxylates; Correction

AGENCY: Environmental Protection Agency (EPA).

ACTION: Notice; correction.

SUMMARY: EPA issued a notice in the Federal Register of June 8, 2010 (75 FR 32463) (FRL-8827-5), concerning the Notice of Filing (NOF) for Pesticide Petition (PP) 0E7699 for polymerized fatty acid esters with aminoalcohol alkoxylates submitted by Exponent, on behalf of Croda. Although the NOF that appeared in the Federal Register was correct, there was a typographical error in the summary NOF that was placed in docket ID number: EPA-HQ-OPP-2010-0275. This document is being issued to announce that the Agency has placed a corrected summary NOF in the docket. Please see docket ID number EPA-HQ-OPP-2010-0275 for the corrected version.

FOR FURTHER INFORMATION CONTACT: Deirdre Sunderland, Registration Division (7505P), Office of Pesticide Programs, Environmental Protection Agency, 1200 Pennsylvania Ave., NW., Washington, DC 20460-0001; telephone number: (703) 603-0851; e-mail address: sunderland.deirdre@epa.gov.

SUPPLEMENTARY INFORMATION:

I. General Information

A. Does this action apply to me?

The Agency included in the notice a list of those who may be potentially affected by this action. If you have questions regarding the applicability of this action to a particular entity, consult the person listed under FOR FURTHER INFORMATION CONTACT.

B. How can I get copies of this document and other related information?

EPA has established a docket for this action under docket identification (ID) number EPA-HQ-OPP-2010-0275. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Does This Correction Do?

The Notice of Filing (NOF) for Pesticide Petition (PP) 0E7699 for polymerized fatty acid esters with aminoalcohol alkoxylates submitted by Exponent, on behalf of Croda, published in the Federal Register (FR Doc. 2010-13689) of June 8, 2010 (75 FR 32463) (FRL-8827-5) is corrected as follows: Although the NOF that appeared in the Federal Register was correct, there was a typographical error in the summary NOF that was placed in docket ID number: EPA-HQ-OPP-2010-0275. The summary referenced an incorrect CAS No. 1173188-71-2 as the test chemical for the studies provided in support of the petition, but should have read CAS No. 1173188-81-2. This document is being issued to announce that the Agency has placed the corrected summary NOF in the docket. Please see docket ID number EPA-HQ-OPP-2010-0275 for the corrected version.

List of Subjects

Environmental protection, Agricultural commodities, Feed additives, Food additives, Pesticides and pests, Reporting and recordkeeping requirements.

Dated: November 4, 2010.
Lois Rossi,
Director, Registration Division, Office of Pesticide Programs.

[FR Doc. 2010-28804 Filed 11-16-10; 8:45 am]

BILLING CODE 6560-50-P